DEPARTMENT OF HOMELAND SECURITY

Federal Emergency Management Agency

[Docket ID: FEMA-2022-0035; OMB No. 1660-0115]

Agency Information Collection Activities: Submission for OMB Review; Comment Request; Environmental and Historic Preservation Screening Form

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. The submission seeks comments concerning the information collection activities required to administer the Environmental and Historic Preservation Environmental Screening Form.

DATES: Comments must be submitted on or before March 9, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Beth McWaters-Bjorkman, Environmental Protection Specialist, FEMA, Grant Programs Directorate, 202-431-8594 or elizabeth.mcwaters-bjorkman@fema.dhs.gov.

SUPPLEMENTARY INFORMATION: FEMA's Grant Programs Directorate (GPD) awards thousands of grants each year through various grant programs. These programs award funds for projects used to improve homeland security and emergency preparedness. The National Environmental Policy Act of 1969 (NEPA) (Pub. L. 91-190, sec. 102 (B) and (C), 42 U.S.C. 4332), the National Historic Preservation Act of 1966 (NHPA) (Pub. L. 89-665, 16 U.S.C. 470f), the Endangered Species Act of 1973 (Pub. L. 93-205, 16 U.S.C. 1531, et seq.), and a variety of other environmental and historic preservation laws and Executive Orders (E.O.) require the Federal Government to examine the potential environmental impacts of its proposed actions on communities, public health and safety, and cultural, historic, and natural resources including endangered and threatened species prior to implementing those actions. The GPD process of considering these potential impacts is called an environmental and historic preservation (EHP) review which is employed to achieve compliance with multiple EHP authorities through one consolidated process.

With input from recipients, FEMA is proposing to revise the EHP Screening Form for clarity and ease of use. The 2022 EHP Screening Form does not require any new information and includes an appendix with guidance on providing photographs with the EHP submission. Recipients are no longer required to submit Authorized Equipment List (AEL) numbers.

This proposed information collection previously published in the Federal Register on November 4, 2022, at 87 FR 66718 with a 60 day public comment period. No comments were received. The purpose of this notice is to notify the public that FEMA will submit the information collection abstracted below to the Office of Management and Budget for review and clearance.

Collection of Information

Title: Environmental and Historic Preservation Screening Form.

Type of Information Collection: Extension, with change, of a currently approved information collection.

OMB Number: 1660-0115.

FEMA Forms: FEMA Form FF-119-FY-21-105 (formerly 024-0-1), Environmental and Historic Preservation Screening Form.

Abstract: The National Environmental Policy Act of 1969 (NEPA) requires that each Federal agency examine the impact of a major Federal action (including the actions of recipients using grant funds) significantly affecting the quality of the human environment. This involves considering the environmental impact of the proposed action, alternatives to the proposed action, informing both decision-makers and the public of the impacts through a transparent process, and identifying mitigation measures for any potential adverse impacts (40 CFR 1500.1, 1501.5 and 1501.6). Among other environmental laws, the review also involves considering the effects of the undertaking on historic properties under Section 106 of the National Historic Preservation Act and the effects of the action on any threatened or endangered species and their habitat under Section 7 of the Endangered Species Act of 1973. This Screening Form will facilitate the Federal Emergency Management Agency's (FEMA's) review of recipient Federally-funded actions in FEMA's effort to comply with the environmental requirements.

Affected Public: State, local or Tribal government; Not-for-Profit Institutions.

Estimated Number of Respondents: 2,300.

Estimated Number of Responses: 2,300.

Estimated Total Annual Burden Hours: 16,752.

Estimated Total Annual Respondent Cost: $1,039,877.

Estimated Respondents' Operation and Maintenance Costs: $0.

Estimated Respondents' Capital and Start-Up Costs: $0.

Estimated Total Annual Cost to the Federal Government: $6,153,716.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-02573 Filed 2-6-23; 8:45 am]

BILLING CODE 9111-78-P